DEPARTMENT OF ENERGY

Federal Energy Regulatory Commission

Notice of Filings #1

Take notice that the Commission received the following electric corporate filings:

Docket Numbers: EC12-46-000.

Applicants: Decker Energy International, Inc., Craven County Wood Energy LP, Grayling Generating Station, LP, AltaGas Services (U.S.) Inc.

Description: Joint Application of Decker Energy International, Inc., et al. for authorization under Federal Power Act Section 203(a)(1).

Filed Date: 12/13/11.

Accession Number: 20111213-5018.

Comments Due: 5 p.m. ET 1/3/12.

Docket Numbers: EC12-47-000.

Applicants: Lea Power Partners, LLC, Waterside Power, LLC.

Description: Application for Authorization for Disposition of Jurisdictional Facilities and Request for Expedited Action of Waterside Power, LLC, et al.

Filed Date: 12/12/11.

Accession Number: 20111212-5202.

Comments Due: 5 p.m. ET 1/2/12.

Take notice that the Commission received the following electric rate filings:

Docket Numbers: ER12-75-002.

Applicants: Public Power, LLC.

Description: Amendment to MBR Tariff in Compliance with Order 697 to be effective 10/13/2011.

Filed Date: 12/12/11.

Accession Number: 20111212-5002.

Comments Due: 5 p.m. ET 1/2/12.

Docket Numbers: ER12-361-001.

Applicants: South Carolina Electric & Gas Company.

Description: Compliance filing—Schedule 1 (Part of Settlement Agreement) to be effective 10/21/2011.

Filed Date: 12/12/11.

Accession Number: 20111212-5074.

Comments Due: 5 p.m. ET 1/2/12.

Docket Numbers: ER12-591-000.

Applicants: ITC Midwest LLC.

Description: ITC Midwest-Dairyland Agreements to be effective 2/13/2012.

Filed Date: 12/12/11.

Accession Number: 20111212-5072.

Comments Due: 5 p.m. ET 1/2/12.

Docket Numbers: ER12-592-000.

Applicants: ITC Midwest LLC.

Description: ITC Midwest LLC submits tariff filing per 35.13(a)(2)(iii): Corn Belt Agreements to be effective 2/13/2012.

Filed Date: 12/12/11.

Accession Number: 20111212-5077.

Comments Due: 5 p.m. ET 1/2/12.

Docket Numbers: ER12-593-000.

Applicants: ITC Midwest LLC.

Description: ITC Midwest LLC submits tariff filing per 35.13(a)(2)(iii): Great River Energy Agreements to be effective 2/13/2012.

Filed Date: 12/12/11.

Accession Number: 20111212-5091.

Comments Due: 5 p.m. ET 1/2/12.

Docket Numbers: ER12-594-000.

Applicants: New York Independent System Operator, Inc.

Description: Niagara Mohawk and Village of Solvay Cost Reimbursement Agreement no. 1810 to be effective 11/22/2011.

Filed Date: 12/12/11.

Accession Number: 20111212-5100.

Comments Due: 5 p.m. ET 1/2/12.

Docket Numbers: ER12-595-000.

Applicants: Constellation Power Source Generation, Inc.

Description: Joint Reactive Rate Filing for the Keystone Project to be effective 1/31/2012.

Filed Date: 12/12/11.

Accession Number: 20111212-5179.

Comments Due: 5 p.m. ET 1/2/12.

Docket Numbers: ER12-596-000.

Applicants: Constellation Power Source Generation, Inc.

Description: Joint Reactive Rate Filing for the Conemaugh Project to be effective 1/31/2012.

Filed Date: 12/12/11.

Accession Number: 20111212-5184.

Comments Due: 5 p.m. ET 1/2/12.

Docket Numbers: ER12-597-000.

Applicants: New York State Reliability Council, L.L.C.

Description: New York State Reliability Council, L.L.C.'s Submission of the Revised Installed Capacity Requirement for the New York Control Area.

Filed Date: 12/12/11.

Accession Number: 20111212-5201.

Comments Due: 5 p.m. ET 1/2/12.

Take notice that the Commission received the following qualifying facility filings:

Docket Numbers: QF12-94-000.

Applicants: Middletown Coke Company, LLC.

Description: Form 556- Notice of self-certification of qualifying cogeneration facility status of Middletown Coke Company, LLC.

Filed Date: 12/12/11.

Accession Number: 20111212-5161.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2011.
Nathaniel J. Davis, Sr.,
Deputy Secretary.

[FR Doc. 2011-32580 Filed 12-20-11; 8:45 am]

BILLING CODE 6717-01-P